Proclamation 10302 of October 29, 2021

National Native American Heritage Month, 2021

By the President of the United States of America

A Proclamation

The United States of America was founded on an idea: that all of us are created equal and deserve equal treatment, equal dignity, and equal opportunity throughout our lives. Throughout our history—though we have always strived to live up to that idea and have never walked away from it—the fact remains that we have fallen short many times. Far too often in our founding era and in the centuries since, the promise of our Nation has been denied to Native Americans who have lived on this land since time immemorial.

Despite a painful history marked by unjust Federal policies of assimilation and termination, American Indian and Alaska Native peoples have persevered. During National Native American Heritage Month, we celebrate the countless contributions of Native peoples past and present, honor the influence they have had on the advancement of our Nation, and recommit ourselves to upholding trust and treaty responsibilities, strengthening Tribal sovereignty, and advancing Tribal self-determination.

The COVID-19 pandemic has highlighted and exacerbated preexisting inequities facing Tribal Nations. Early in the pandemic, reported cases in the Native American community were over 3 times the rate of white Americans; in some States, Native American lives were lost at a rate 5 times their population share. Even as they shouldered a disproportionate burden throughout the pandemic, Tribal Nations have been paragons of resilience, determination, and patriotism—implementing key mitigation strategies like testing and prioritizing the vaccination of Tribal communities at high rates in order to save lives. Through it all, Tribal Nations have effectively utilized the tools of Tribal self-governance to protect and lead their communities, setting a standard for all of our communities to follow.

Our Nation cannot live up to the promise of our founding as long as inequities affecting Native Americans persist. My Administration is committed to advancing equity and opportunity for all American Indians and Alaska Natives and to helping Tribal Nations overcome the challenges that they have faced from the pandemic, climate change, and a lack of sufficient infrastructure in a way that reflects their unique political relationship.

As a starting point, the American Rescue Plan represented the most significant funding legislation for Indian Country in the history of our Nation—the largest single Federal investment in Native communities ever, with $20 billion in direct funding to help Tribal governments combat and emerge from the COVID-19 crisis. Through the Bipartisan Infrastructure Deal and my Build Back Better framework, my Administration is pushing for strong Tribal participation to help build our Nation's clean energy future, deploy clean water and high-speed internet to every home, and invest in Native American families, businesses, jobs, and communities.

In my first week in office, I also signed a Presidential Memorandum committing my Administration to the fulfillment of our Federal trust and treaty responsibilities, to respect Tribal self-governance, and to conduct regular, meaningful, and robust consultations with Tribal Nations on a broad range of policy issues. Together, we are implementing a whole-of-government approach to empower Tribal Nations in their efforts to achieve political and economic self-sufficiency, advance climate resiliency, and protect their territorial sovereignty. To further elevate the voices of Native Americans in my Administration, I restarted the White House Council on Native American Affairs earlier this year. It was among the proudest honors of my life to appoint one of our country's most remarkable leaders, Deb Haaland of the Pueblo of Laguna, to serve as United States Secretary of the Interior—the first Native American in the history of our Nation to serve in the Cabinet.

During National Native American Heritage Month, we also honor our Native Americans veterans and service members who have courageously served and continue to serve in our Armed Forces—including the brave Native American Code Talkers in World War I and World War II. For over 200 years, Native Americans have defended our country during every major conflict and continue to serve at a higher rate than any other ethnic group in the Nation. Because of their selflessness, every generation of Americans receives the precious gift of liberty—and we owe each of them and their families a debt of gratitude for their sacrifice and dedication.

Native American roots are deeply embedded in this land—a homeland loved, nurtured, strengthened, and fought for with honor and conviction. This month and every month, we honor the precious, strong, and enduring cultures and contributions of all Native Americans and recommit ourselves to fulfilling the full promise of our Nation together.

NOW, THEREFORE, I, JOSEPH R. BIDEN JR., President of the United States of America, by virtue of the authority vested in me by the Constitution and the laws of the United States, do hereby proclaim November 2021 as National Native American Heritage Month. I urge all Americans, as well as their elected representatives at the Federal, State, and local levels, to observe this month with appropriate programs, ceremonies, and activities, and to celebrate November 26, 2021, as Native American Heritage Day.

IN WITNESS WHEREOF, I have hereunto set my hand this twenty-ninth day of October, in the year of our Lord two thousand twenty-one, and of the Independence of the United States of America the two hundred and forty-sixth.

[FR Doc. 2021-24121

Filed 11-2-21; 8:45 am]

Billing code 3395-F2-P